DEPARTMENT OF TRANSPORTATION

Federal Aviation Administration

14 CFR Part 39

[Docket No. FAA-2021-0999; Project Identifier MCAI-2021-00036-A]

RIN 2120-AA64

Airworthiness Directives; Pilatus Aircraft Ltd. Airplanes

AGENCY: Federal Aviation Administration (FAA), DOT.

ACTION: Notice of proposed rulemaking (NPRM).

SUMMARY: The FAA proposes to adopt a new airworthiness directive (AD) for certain Pilatus Aircraft Ltd. (Pilatus) Model PC-12/47E airplanes. This proposed AD results from mandatory continuing airworthiness information (MCAI) originated by an aviation authority of another country to identify and correct an unsafe condition on an aviation product. The MCAI identifies the unsafe condition as inward vent valves installed during production without chromate conversion coating on the bonding surface. This proposed AD would require modifying the inward vent valves and prohibiting installation of unmodified inward vent valves. The FAA is proposing this AD to address the unsafe condition on these products.

DATES: The FAA must receive comments on this proposed AD by December 27, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Pilatus Aircraft Ltd., CH-6371, Stans, Switzerland; phone: +41 848 24 7 365; email: techsupport.ch@pilatus-aircraft.com; website: https://www.pilatus-aircraft.com/. You may view this service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2021-0999; or in person at Docket Operations between 9 a.m. and 5 p.m., Monday through Friday, except Federal holidays. The AD docket contains this NPRM, the MCAI, any comments received, and other information. The street address for Docket Operations is listed above.

FOR FURTHER INFORMATION CONTACT: Doug Rudolph, Aviation Safety Engineer, FAA, General Aviation & Rotorcraft Section, International Validation Branch, 901 Locust, Room 301, Kansas City, MO 64106; phone: (816) 329-4059; fax: (816) 329-4090; email: doug.rudolph@faa.gov.

SUPPLEMENTARY INFORMATION:

Comments Invited

The FAA invites you to send any written relevant data, views, or arguments about this proposal. Send your comments to an address listed under the ADDRESSES section. Include “Docket No. FAA-2021-0999; Project Identifier MCAI-2021-00036-A” at the beginning of your comments. The most helpful comments reference a specific portion of the proposal, explain the reason for any recommended change, and include supporting data. The FAA will consider all comments received by the closing date and may amend this NPRM because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this AD. Submissions containing CBI should be sent to Doug Rudolph, Aviation Safety Engineer, FAA, General Aviation & Rotorcraft Section, International Validation Branch, 901 Locust, Room 301, Kansas City, MO 64106. Any commentary that the FAA receives which is not specifically designated as CBI will be placed in the public docket for this rulemaking.

Background

The European Union Aviation Safety Agency (EASA), which is the Technical Agent for the Member States of the European Union, has issued EASA AD 2021-0010, dated January 11, 2021 (referred to after this as “the MCAI”), to correct an unsafe condition for Pilatus Model PC-12/47E airplanes with serial number 1720 and serial number 2001 and higher. The MCAI states:

An occurrence was reported where, on the production line, a batch of inward vent valves without a chromate conversion coating on the bonding surface were installed on some PC-12/47E aeroplanes. Such inward vent valves are not in compliance with the latest approved design data.

This condition, if not corrected, could lead to corrosion, consequent degradation of the electrical bonding to Rib 16, and in case of lightning strike, to arcing between the ungrounded equipment and the primary structure, possibly resulting in a fire and reduced control of the aeroplane.

To address this potential unsafe condition, Pilatus issued the SB [Service Bulletin] to provide modification instructions.

For the reason described above, this [EASA] AD requires modification of each affected part, as defined in this AD. This AD also prohibits (re-) installation of affected parts.

You may examine the MCAI in the AD docket at https://www.regulations.gov by searching for and locating Docket No. FAA-2021-0999.

Related Service Information Under 1 CFR Part 51

The FAA reviewed the following service documents proposed for compliance with this NPRM:

Pilatus Service Bulletin No. 28-015, dated October 12, 2020, which contains information for identifying the affected inward vent valves, removing the affected inward vent valve, and installing a modified inward vent valve.

Pall Corporation Service Bulletin SB9337-01-29-01, Issue 1, dated September 22, 2020, which contains instructions for modifying the inward vent valve by applying corrosion protective chromate conversation coating.

This service information is reasonably available because the interested parties have access to it through their normal course of business or by the means identified in the ADDRESSES section.

FAA's Determination

This product has been approved by the aviation authority of another country, and is approved for operation in the United States. Pursuant to the FAA's bilateral agreement with this State of Design Authority, it has notified the agency of the unsafe condition described in the MCAI and service information referenced above. The FAA is issuing this NPRM after determining that the unsafe condition described previously is likely to exist or develop on other products of the same type design.

Proposed AD Requirements in This NPRM

This proposed AD would require accomplishing the actions specified in the service information already described. This proposed AD would also prohibit installation of the unmodified inward vent valves on any airplane.

Costs of Compliance

The FAA estimates that this AD, if adopted as proposed, would affect 24 airplanes of U.S. registry.

The FAA estimates the following costs to comply with this proposed AD:

Estimated Costs
Action | Labor cost | Parts cost | Cost per product | Cost on U.S. operators
Modification per airplane if both sides affected | 3 work-hours × $85 per hour = $255 | $50 | $305 | $7,320

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Would not be a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Pilatus Aircraft Ltd.: Docket No. FAA-2021-0999; Project Identifier MCAI-2021-00036-A.

(a) Comments Due Date

The FAA must receive comments on this airworthiness directive (AD) by December 27, 2021.

(b) Affected ADs

None.

(c) Applicability

This AD applies to Pilatus Aircraft Ltd. Model PC-12/47E airplanes, serial number (S/N) 1720 and S/N 2001 and larger, certificated in any category.

(d) Subject

Joint Aircraft System Component (JASC) Code 2800, Aircraft Fuel System.

(e) Unsafe Condition

This AD was prompted by mandatory continuing airworthiness information (MCAI) originated by an aviation authority of another country to identify and correct an unsafe condition on an aviation product. The MCAI identifies the unsafe condition as inward vent valves installed during production without chromate conversion coating on the bonding surface. The FAA is issuing this AD to prevent corrosion and degradation of the electrical bonding to Rib 16. This condition, if not addressed, could lead to arcing between the ungrounded equipment and the primary structure in the event of a lightning strike, resulting in a fire and reduced airplane control.

(f) Compliance

Comply with this AD within the compliance times specified, unless already done.

(g) Definitions

(1) Group 1 airplanes: Airplanes with an inward vent valve part number (P/N) 963.04.26.520 installed with a serial number listed in section 1.C(1) of Pilatus Service Bulletin No. 28-015, dated October 12, 2020 (Pilatus SB 20-015).

(2) Group 2 airplanes: Airplanes without an inward vent valve P/N 963.04.26.520 installed with a serial number listed in section 1.C(1) of Pilatus SB 20-015.

(h) Modification of Inward Vent Valves

For Group 1 airplanes, within 1,200 hours time-in-service after the effective date of this AD or within 9 months after the effective date of this AD, whichever occurs first, modify each inward vent valve in accordance with the Accomplishment Instructions and Rework Instructions in Pall Corporation Service Bulletin SB9337-01-29-01, Issue 1, dated September 22, 2020 (Pall SB9337-01-29-01, Issue 1).

(i) Prohibited Installation

For all airplanes, as of the effective date of this AD, do not install an inward vent valve P/N 963.04.26.520 that has a serial number listed in section 1.C(1) of Pilatus SB 28-015 on any airplane, unless it is modified in accordance with the Accomplishment Instructions and Rework Instructions of Pall SB9337-01-29-01, Issue 1.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD or email: 9-AVS-AIR-730-AMOC@faa.gov.

(2) Before using any approved AMOC, notify your appropriate principal inspector, or lacking a principal inspector, the manager of the local flight standards district office/certificate holding district office.

(k) Related Information

(1) For more information about this AD, contact Doug Rudolph, Aviation Safety Engineer, General Aviation & Rotorcraft Section, FAA, General Aviation & Rotorcraft Section, International Validation Branch, 901 Locust, Room 301, Kansas City, MO 64106; phone: (816) 329-4059; fax: (816) 329-4090; email: doug.rudolph@faa.gov.

(2) Refer to MCAI European Union Aviation Safety Agency AD 2021-0010, dated January 11, 2021, for related information. You may examine the MCAI at https://www.regulations.gov by searching for and locating Docket No. Docket No. FAA-2021-0999. For service information related to this AD, contact Pilatus Aircraft Ltd., Customer Support General Aviation, CH-6371 Stans, Switzerland; phone: +41 848 24 7 365; email: techsupport.ch@pilatus-aircraft.com; website: https://www.pilatus-aircraft.com. You may review this referenced service information at the FAA, Airworthiness Products Section, Operational Safety Branch, 901 Locust, Kansas City, MO 64106. For information on the availability of this material at the FAA, call (816) 329-4148.

Issued on November 4, 2021.
Gaetano A. Sciortino,
Deputy Director for Strategic Initiatives, Compliance & Airworthiness Division, Aircraft Certification Service.

[FR Doc. 2021-24540 Filed 11-10-21; 8:45 am]

BILLING CODE 4910-13-P